FEDERAL HIGHWAY ADMINISTRATION

[FHWA-DC-EA-2010-01-F]

Notice of Availability of the Finding of No Significant Impact for the Klingle Valley Trail

AGENCIES: Federal Highway Administration, District of Columbia Division; and District Department of Transportation; in cooperation with the National Park Service.

ACTION: Notice of availability of the Finding of No Significant Impact for the Klingle Valley Trail Project.

SUMMARY: The U.S. Federal Highway Administration (FHWA) and the District Department of Transportation (DDOT) as lead agencies, and in cooperation with the National Park Service (NPS), announce the availability of the Finding of No Significant Impact (FONSI) for the Klingle Valley Trail Project, pursuant to the requirements of the National Environmental Policy Act of 1969 (NEPA), 42 U.S.C. 4321-4347; the Council on Environmental Quality Regulations (40 CFR parts 1500-1508); and the FHWA Environmental Impact and Related Procedures (23 CFR part 771).

FOR FURTHER INFORMATION CONTACT: Federal Highway Administration, District of Columbia Division: Mr. Michael Hicks, Environmental/Urban Engineer, 1990 K Street, NW., Suite 510, Washington, DC 20006-1103, (202) 219-3536; or District Department of Transportation: Austina Casey, Project Manager, Planning, Policy and Sustainability Administration, 2000 14th Street, NW., 7th Floor, Washington, DC 20009, (202) 671-2740.

SUPPLEMENTARY INFORMATION: The proposed action evaluated in the Environmental Assessment (EA) includes construction of a multi-use trail facility within the 0.7 mile barricaded portion of Klingle Road between Porter Street, NW., and Cortland Place, NW.; including the restoration of Klingle Creek.

Four Klingle Valley Trail alternatives, including the No Action Alternative, two options for the Restoration of Klingle Creek, and three options for Access to Rock Creek Trail are analyzed in detail in the EA to meet the project purpose and need. Two options for lighting were also evaluated. Following the public comment period, DDOT identified Alternative 2, 10-Foot Multi-Use Trail (Permeable), as the Preferred Alternative. Furthermore the following options were identified as the preferred options: Klingle Creek Restoration Option B—Full Stream Channel and Bank Stabilization; access to Rock Creek Trail Option C Modified, and Lighting Option B—Pole Lighting.

The FHWA has determined that the Preferred Alternative and options will not have a significant impact on the natural, human or built environment. This Finding of No Significant Impact (FONSI) is based on the findings of the proposed project's Final EA, and comments submitted during preparation of the EA. The Final EA has been evaluated by the FHWA and determined to adequately discuss the need, environmental issues, and impacts of the proposed project and appropriate mitigation measures. It provides sufficient evidence and analysis for determining that an environmental impact statement is not required.

Electronic and Hard Copy Access: An electronic copy of this document may be downloaded from the Project Web Site: http://www.klingletrail.com. Hard copies of the EA may also be viewed at the following locations:

District Department of Transportation, Planning, Policy, and Sustainability Administration, 2000 14th Street, NW., 7th Floor, Washington, DC 20009.

National Capital Planning Commission Library, 401 9th Street, NW., North Lobby, Suite 500, Washington, DC 20004.

Martin Luther King, Jr. Memorial Library, 901 G Street, NW., Washington, DC 20001.

Cleveland Park Branch Library, 3310 Connecticut Avenue, NW., Washington, DC 20008.

Mount Pleasant Library, 3162 Mt. Pleasant Street, NW., Washington, DC 20010.

Issued: February 28, 2011.
Joseph C. Lawson,
Division Administrator, Federal Highway Administration, District of Columbia Division.

[FR Doc. 2011-4822 Filed 3-3-11; 8:45 am]

BILLING CODE 4910-22-P